DEPARTMENT OF TRANSPORTATION

Federal Aviation Administration

14 CFR Part 25

[Docket No. NM372 Special Conditions No. 25-355-SC]

Special Conditions: Boeing Model 787-8 Airplane; Reinforced Flightdeck Bulkhead

AGENCY: Federal Aviation Administration (FAA), DOT.

ACTION: Final special conditions.

SUMMARY: These special conditions are issued for the Boeing Model 787-8 airplane. This airplane will have novel or unusual design features when compared to the state of technology envisioned in the airworthiness standards for transport category airplanes. The Boeing Model 787-8 airplanes will have a flightdeck bulkhead incorporating ballistic-and intrusion-resistant features. While the regulations include standards for ballistic-and intrusion-resistant flightdeck doors, they do not yet incorporate the same standards for these features in the bulkhead. Therefore, special conditions are needed to address these design features. These special conditions contain the additional safety standards that the Administrator considers necessary to establish a level of safety equivalent to that established by the existing standards. Additional special conditions will be issued for other novel or unusual design features of the Boeing Model 787-8 airplanes.

EFFECTIVE DATE: August 23, 2007.

FOR FURTHER INFORMATION CONTACT: Jeff Gardlin, FAA, Airframe/Cabin Safety, ANM-115, Transport Airplane Directorate, Aircraft Certification Service, 1601 Lind Avenue, SW., Renton, Washington 98057-3356; telephone (425) 227-2136; facsimile (425) 227-1320.

SUPPLEMENTARY INFORMATION:

Background

On March 28, 2003, Boeing applied for an FAA type certificate for its new Boeing Model 787-8 passenger airplane. The Boeing Model 787-8 airplane will be an all-new, two-engine jet transport airplane with a two-aisle cabin. The maximum takeoff weight will be 476,000 pounds, with a maximum passenger count of 381 passengers.

Type Certification Basis

Under provisions of 14 Code of Federal Regulations (CFR) 21.17, Boeing must show that Boeing Model 787-8 airplanes (hereafter referred to as “the 787”) meet the applicable provisions of 14 CFR part 25, as amended by Amendments 25-1 through 25-117, except §§ 25.809(a) and 25.812, which will remain at Amendment 25-115. If the Administrator finds that the applicable airworthiness regulations do not contain adequate or appropriate safety standards for the 787 because of a novel or unusual design feature, special conditions are prescribed under provisions of 14 CFR 21.16.

In addition to the applicable airworthiness regulations and special conditions, the 787 must comply with the fuel vent and exhaust emission requirements of 14 CFR part 34 and the noise certification requirements of part 36. In addition, the FAA must issue a finding of regulatory adequacy pursuant to section 611 of Public Law 92-574, the “Noise Control Act of 1972.”

The FAA issues special conditions, as defined in § 11.19, under § 11.38 and they become part of the type certification basis under § 21.17(a)(2).

Special conditions are initially applicable to the model for which they are issued. Should the type certificate for that model be amended later to include any other model that incorporates the same or similar novel or unusual design feature, the special conditions would also apply to the other model under § 21.101.

Novel or Unusual Design Features

The 787 will incorporate a number of novel or unusual design features. Because of rapid improvements in airplane technology, the applicable airworthiness regulations do not contain adequate or appropriate safety standards for these design features. These special conditions for the 787 contain the additional safety standards that the Administrator considers necessary to establish a level of safety equivalent to that established by the existing airworthiness standards.

On January 15, 2002, the FAA issued 14 CFR 25.795(a) (Amendment 25-106), which specifies that the flightdeck door of a transport airplane be designed to resist forcible intrusion by unauthorized persons and penetration by small arms fire and fragmentation devices. At the time it was written, the regulation was limited to the flightdeck door to expedite a rapid retrofit of the existing airplanes required by operating rules to have a flightdeck door.

In addition to a reinforced flightdeck door, the 787 will have a flightdeck bulkhead which is reinforced to resist intrusion and ballistic penetration. The regulations do not adequately address the certification requirements for such a bulkhead, and appropriate certification standards are necessary. These special conditions require that the reinforced flightdeck bulkhead meet the same standards as those specified in § 25.795(a) for flightdeck doors. These special conditions contain the minimum standards that the Administrator considers necessary to ensure that safety standards are maintained after the aircraft enters into service.

On December 21, 2006, the FAA issued a notice of proposed rulemaking that proposes amending § 25.795(a) to require that a flightdeck bulkhead—and any other accessible barrier separating the flightcrew compartment from occupied areas—also be designed to resist intrusion or penetration. The methods of compliance described in the preamble of that notice and associated draft advisory material could be used to show compliance with these special conditions. For the 787, the reinforced bulkhead may be comprised of components such as the walls of adjacent lavatories, galleys, or crew rest areas. Those components are covered by these special conditions.

Discussion of Comments

Notice of Proposed Special Conditions No. 25-07-08-SC for the 787 was published in the Federal Register on April 12, 2007 (72 FR 18412). One comment was received, from Air Line Pilots Association, International (ALPA).

ALPA Comment: ALPA recommended that the requirements of these special conditions apply to future versions of the 787, including possible freighter configurations.

FAA Response: These special conditions apply to airplanes that incorporate a reinforced bulkhead. They are not limited to any particular type of operation, nor do they impose operational requirements. Thus, if a future freighter version did incorporate a reinforced bulkhead, these special conditions would apply. These special conditions are adopted as proposed.

Applicability

As discussed above, these special conditions are applicable to the 787. Should Boeing apply at a later date for a change to the type certificate to include another model on the same type certificate incorporating the same novel or unusual design features, these special conditions would apply to that model as well.

Conclusion

This action affects only certain novel or unusual design features of the 787. It is not a rule of general applicability.

List of Subjects in 14 CFR Part 25

Aircraft, Aviation safety, Reporting and recordkeeping requirements.

The authority citation for these special conditions is as follows:

Authority: 49 U.S.C. 106(g), 40113, 44701, 44702, 44704.

The Special Conditions

Accordingly, pursuant to the authority delegated to me by the Administrator, the following special conditions are issued as part of the type certification basis for the Boeing Model 787-8 airplane.

In addition to the requirements of 14 CFR 25.795(a) governing protection of the flightdeck door, the following special conditions apply.

The reinforced bulkhead, including components that comprise the bulkhead, separating the flightcrew compartment from occupied areas must be designed to meet the following standards:

It must resist forcible intrusion by unauthorized persons and be capable of withstanding impacts of 300 Joules (221.3 foot-pounds) at critical locations on the bulkhead as well as a 1113 Newton (250 pound) constant tensile load on accessible handholds.

It must resist penetration by small arms fire and fragmentation devices to a level equivalent to level IIIa of the National Institute of Justice Standard (NIJ) 0101.04.

Issued in Renton, Washington, on July 12, 2007.
Stephen P. Boyd,
Acting Manager, Transport Airplane Directorate, Aircraft Certification Service.

[FR Doc. E7-14333 Filed 7-23-07; 8:45 am]

BILLING CODE 4910-13-P